DEPARTMENT OF HEALTH AND HUMAN SERVICES

Food and Drug Administration

21 CFR Parts 16 and 118

[Docket No. FDA-2000-N-0190] (formerly Docket No. 2000N-0504)

RIN 0910-AC14

Egg Safety; Final Rule for Prevention of Salmonella Enteritidis in Shell Eggs During Production, Storage, and Transportation; Public Meetings

AGENCY: Food and Drug Administration, HHS.

ACTION: Notice of public meetings.

The Food and Drug Administration (FDA) is announcing two public meetings to discuss the final rule concerning the prevention of Salmonella Enteritidis (SE) in shell eggs during production, storage, and transportation. The purpose of the public meetings is to explain the requirements of the rule and how to comply with it, and to provide the public an opportunity to ask questions.

Dates, Times, and Locations: See “How to Participate in the Meetings” in the SUPPLEMENTARY INFORMATION section of this document for dates and times of the meetings, closing dates for advance registration, requesting special accommodations due to disability, and other information regarding meeting participation.

Contact Person: For general questions about the meetings or for special accommodations due to a disability, contact Juanita Yates, Center for Food Safety and Applied Nutrition (HFS-009), Food and Drug Administration, 5100 Paint Branch Pkwy., College Park, MD 20740, 301-436-1731, e-mail: juanita.yates@fda.hhs.gov.

SUPPLEMENTARY INFORMATION:

I. How to Participate in the Meetings

Table 1 of this document provides information on participation in the meetings.

Table 1.
| Date | Address | Electronic Address | Other Information
First public meeting | September 30, 2009, from 1 p.m. to 5 p.m. | Hyatt Regency Chicago, 151 East Wacker Dr., Chicago, IL 60601 |  |
Advance registration | By September 21, 2009 | We encourage you to use electronic registration if possible.¹ | http://www.fda.gov/Food/NewsEvents/WorkshopsMeetingsConferences/default.htm | There is no registration fee for the public meetings. Early registration is recommended because seating is limited.
Request special accommodations due to a disability | By September 21, 2009 | See Contact Person |  |
Second public meeting | November 5, 2009, from 1 p.m. to 5 p.m. | The Westin Peachtree Plaza Hotel, 210 Peachtree St., NW., Atlanta, GA 30303 |  |
Advance registration | By October 26, 2009 | We encourage you to use electronic registration if possible.¹ | http://www.fda.gov/Food/NewsEvents/WorkshopsMeetingsConferences/default.htm | There is no registration fee for the public meetings. Early registration is recommended because seating is limited.
Request special accommodations due to a disability | By October 26, 2009 | See Contact Person |  |
¹ You may also register via e-mail, mail, or fax. Please include your name, title, firm name, address, and phone and fax numbers in your registration information and send to: Deborah Harris, EDJ Associates, Inc., 11300 Rockville Pike, suite 1001, Rockville, MD 20852, 240-221-4326, FAX: 301-945-4295, e-mail: fda-CFSAN_Registration@edjassociates.com. Onsite registration will also be available at both meeting sites.

II. Background

In the Federal Register of July 9, 2009 (74 FR 33030), FDA published a final rule, “Prevention of Salmonella Enteritidis in Shell Eggs During Production, Storage, and Transportation,” that requires shell egg producers to implement measures to prevent SE from contaminating eggs on the farm and from further growth during storage and transportation, and requires these producers to maintain records concerning their compliance with the rule and to register with FDA. FDA took this action because SE is among the leading bacterial causes of foodborne illness in the United States, and shell eggs are a primary source of human SE infections. The final rule will reduce SE-associated illnesses and deaths by reducing the risk that shell eggs are contaminated with SE.

This document announces two public meetings as part of the agency's planned outreach initiatives regarding the final rule.

III. Transcripts

Please be advised that as soon as a transcript is available, it will be accessible at http://www.regulations.gov. It may be viewed at the Division of Dockets Management (HFA-305), Food and Drug Administration, 5630 Fishers Lane, rm. 1061, Rockville, MD. A transcript will also be available in either hardcopy or on CD-ROM, after submission of a Freedom of Information request. Written requests are to be sent to Division of Freedom of Information (HFI-35), Office of Management Programs, Food and Drug Administration, 5600 Fishers Lane, rm. 6-30, Rockville, MD 20857.

Dated: August 24, 2009.
David Horowitz,
Assistant Commissioner for Policy.

[FR Doc. E9-20856 Filed 8-28-09; 8:45 am]

BILLING CODE 4160-01-S